DEPARTMENT OF ENERGY

Environmental Management Advisory Board

AGENCY: Office of Environmental Management, Department of Energy.

ACTION: Notice of renewal.

SUMMARY: Pursuant to Section 14(a)(2)(A) of the Federal Advisory Committee Act (Pub. L. 92-463), and in accordance with Title 41, Code of Federal Regulations, Section 102-3.65(a), and following consultation with the Committee Management Secretariat, General Services Administration, notice is hereby given that the Environmental Management Advisory Board will be renewed for a two-year period beginning January 23, 2012.

The Board provides advice and recommendations to the Assistant Secretary for Environmental Management (EM) on a broad range of corporate issues affecting the EM program. These issues include, but are not limited to, project management and oversight activities, cost/benefit analyses, program performance, human capital development, and contracts and acquisition strategies. Recommendations to EM on the programmatic resolution of numerous difficult issues will help achieve EM's objective of the safe and efficient cleanup of its contaminated sites.

Additionally, the renewal of the Environmental Management Advisory Board has been determined to be essential to the conduct of the Department's mission and to be in the public interest in connection with the performance of duties imposed the Department of Energy by law and agreement. The Board will operate in accordance with the provisions of the Federal Advisory Committee Act, and rules and regulations issued in implementation of that Act.

FOR FURTHER INFORMATION CONTACT: Ms. Kristen G. Ellis, Designated Federal Officer, by telephone at (202) 586-5810 or by email at: kristen.ellis@em.doe.gov.

Issued at Washington, DC, on January 23, 2012.
Carol A. Matthews,
Committee Management Officer.

[FR Doc. 2012-1911 Filed 1-27-12; 8:45 am]

BILLING CODE 6450-01-P